DEPARTMENT OF AGRICULTURE

Forest Service

Kuiu Timber Sale Environmental Impact Statement; Correction

AGENCY: Forest Service, USDA.

ACTION: Notice of intent to prepare an Environmental Impact Statement; correction.

SUMMARY: The Department of Agriculture, Forest Service, published a document in the Federal Register August 18, 2004, concerning the notice of intent to prepare an Environmental Impact Statement on a proposal to harvest timber and to develop a road management plan for the Kuiu Timber Sale on north-central Kuiu Island, on the Petersburg Ranger District, Tongass National Forest. The document contained incorrect dates.

FOR FURTHER INFORMATION CONTACT: Kris Rutledge, Team Leader at 907-772-3871.

Correction

In the Federal Register of August 18, 2004, in FR Doc. 04-18915, on page 51230, in the first column, correct the Dates caption to read:

DATES: An initial letter outlining the project timeline and public involvement opportunities was distributed during February 2004. A scoping letter will be mailed in the fall of 2004. Individuals who want to receive this mailing should contact the Petersburg Ranger District at the following address. The Draft Environmental Impact Statement is projected to be filed with the Environmental Protection Agency (EPA) in the winter of 2005 and will begin a 45-day public comment period. The Final Environmental Impact Statement and Record of Decision are scheduled to be published in the spring of 2005.

Dated: August 27, 2004.
Forrest Cole,
Forest Supervisor.

[FR Doc. 04-20669 Filed 9-13-04; 8:45 am]

BILLING CODE 3410-11-M